DEPARTMENT OF TRANSPORTATION

Federal Aviation Administration

Notice of Intent of Waiver With Respect to Land; Indianapolis Downtown Heliport, Indianapolis, IN

AGENCY: Federal Aviation Administration (FAA), DOT.

ACTION: Notice.

SUMMARY: The FAA is considering a proposal to permanently close the Indianapolis Downtown Heliport and change 5.36 acres of land from aeronautical use to non-aeronautical use and to authorize the sale of all heliport property located at the Indianapolis Downtown Heliport, Indianapolis, Indiana. The Indianapolis Airport Authority (Authority) has submitted a request to release the Authority from its Federal Airport Improvement Program (AIP) obligations associated with Indianapolis Downtown Heliport. The request includes the closure of the heliport and sale of all heliport property for non-aeronautical redevelopment.

DATES: Comments must be received on or before March 9, 2023.

ADDRESSES: Documents are available for review by appointment at the FAA Chicago Airports District Office, Melanie Myers, Program Manager, 2300 East Devon Avenue, Des Plaines, IL 60018, Telephone: (847) 294-7525/Fax: (847) 294-7046 and Eric Anderson, Director of Properties, Indianapolis Airport Authority, 7800 Col. H. Weir Cook Memorial Drive, Indianapolis, IN 46241, Telephone: (317) 487-5135.

Written comments on the Sponsor's request must be delivered or mailed to: Melanie Myers, Program Manager, Federal Aviation Administration, Chicago Airports District Office, 2300 East Devon Avenue, Des Plaines, Illinois 60018. Telephone Number: (847) 294-7525/FAX Number: (847) 294-7046.

FOR FURTHER INFORMATION CONTACT: Melanie Myers, Program Manager, Federal Aviation Administration, Chicago Airports District Office, 2300 East Devon Avenue, Des Plaines, Illinois 60018. Telephone Number: (847) 294-7525/FAX Number: (847) 294-7046.

SUPPLEMENTARY INFORMATION: In accordance with section 47107(h) of Title 49, United States Code, this notice is required to be published in the Federal Register 30 days before modifying the land-use assurance that requires the property to be used for an aeronautical purpose.

The 5.36 acre subject property makes up the Indianapolis Downtown Heliport. The Heliport is comprised of a surface parking lot, roadway, fuel farm, apron, a building offering office space, a parking garage, and two hangars. The land is proposed to be sold for commercial redevelopment. AIP grants were issued in 1983 and 1984 to reimburse the Authority the original land purchases for development of the heliport. Two independent appraisals and a review appraisal have been conducted to determine the property's valuation. The Authority will receive fair market value for the sale of the subject property.

The disposition of proceeds from the sale of the heliport property will be in accordance with FAA's Policy and Procedures Concerning the Use of Airport Revenue, published in the Federal Register on February 16, 1999 (64 FR 7696).

This notice announces that the FAA is considering the release of the subject heliport property at the Indianapolis Downtown Heliport, Indianapolis, Indiana from federal land covenants, subject to reservations and restrictions on the released property as required in FAA Order 5190.6B, Change 2, section 22.16. Approval does not constitute a commitment by the FAA to financially assist in the disposal of the subject heliport property nor a determination of eligibility for grant-in-aid funding from the FAA.

Record Land Descriptions

Instrument No. 840072769

A part of Square 80 and a part of vacated New Jersey Street of the Public Donation Lands to the City of Indianapolis, Lying in Center Township, Marion County, Indiana and more particularly described as follows:

Commencing at the northwest corner of square 79, which point is in the east line of Alabama Street and South 00 degrees 12 minutes 32 seconds West 420.00 feet from south line of Washington Street; thence South 89 degrees 49 minutes 55 seconds East 457.29 feet along north line of John M. & Esther C. LaRosa property to the Point of Beginning; thence continue South 89 degrees 49 minutes 55 seconds East 57.45 feet to the point of curvature of a tangent curve concave to the north; thence Easterly 134.17 feet along said curve, having a radius of 954.68 feet and subtended by a long chord bearing North 86 degrees 08 minutes 34 seconds East 134.06 to the Northeast corner of John M. and Esther C. LaRosa property; thence South 00 degrees 12 minutes 27 Seconds West 67.27 feet along east line of said property; thence North 81 degrees 13 minutes 52 seconds West 68.25 feet; thence North 68 degrees 45 minutes 21 seconds West 132.51 feet to the Point of Beginning. Containing 0.159 acres (6926 square feet more or less).

Instrument No. 850065433

A part of Lots 7 and 8 and a part of the West Half of vacated New Jersey Street in Yandes & Wilkins Subdivision of Square 62, an addition to the City of Indianapolis, the plat of which is recorded in Plat Book 1, page 293 in the Office of Recorder of Marion County, Indiana, more particularly described as follows:

Commencing at the southwest corner, of Lot 4 in said subdivision; thence South 89 degrees 49 minutes 55 seconds East 322.94 feet along the south line of Lots 4 and 5; thence North 0 degrees 12 minutes 27 seconds East 105.00 feet to the south line of Lot 7 and the Point of Beginning; thence continue North 0 degrees 12 minutes 27 seconds East 90.00 feet to the north line of Lot 8; thence South 89 degrees 49 minutes 55 seconds East 142.00 feet along said north line; thence South 0 degrees 12 minutes 27 seconds West 90.00 feet; thence North 89 degrees 49 minutes 55 seconds West 142.00 feet along the south line of Lot 7 to the point of Beginning and containing 12,780 square feet, more or less.

Instrument No. 8000316

A part of the Northeast quarter of the Northwest Quarter and part of the Northwest Quarter of the Northeast Quarter of Section 12, Township 15 North, Range 3 East lying in Center Township, Marion County, Indiana, being a part of Square 80 and part of Out Lots 83 and 84 in the City of Indianapolis, Indiana and also being designated as Parcel I.D. No. INF-10H-145B on Railroad Valuation Map No. 072-5010-0-7-7 as revised on January 27, 1969, being the land of the Cleveland, Cincinnati, Chicago, and St. Louis Railway Company, more particularly described follows:

Each of the following points referred to as monuments and not otherwise described are ⅝ inch steel rods with aluminum caps stamped LS 7749 and were set by this survey.

Commencing at a monument set at the intersection of the South line of Washington Street and the West line of Liberty Street (now Park Avenue); thence South 00 degrees 01 minute 33 seconds West, an assumed bearing, along the West line of Liberty Street (now Park Avenue) a distance of 179.34 feet to a monument; the following five courses describe a part of the South line of the Chicago, Indianapolis, and Louisville Railway Company (now the Louisville and Nashville Railroad Company) Property, after said Railway Company did convey and quit claim to the Cleveland. Cincinnati, Chicago, and St. Louis Railway, on June 4, 1923, all the land lying South of said line by an indenture recorded in Deed Records (Town Lots) Book #697, pages 117 and 118 in the Marion County Recorder's Office.

(1) Thence South 73 degrees 02 minutes 20 seconds West a distance of 28.16 feet to a Monument set distant 40.00 feet Northwesterly measured perpendicularly from the center line of the Northerly track of the Indianapolis Railway Company as it was located November 7, 1977 and being the point of beginning of the following described tract;

(2) Thence continuing South 73 degrees 02 minutes 20 seconds West a distance of 411.68 feet to a monument set above the East line of East Street, (up on elevated property) 308.88 feet South of the South line of Washington Street measured along the East line of East Street;

(3) Thence continuing South 73 degrees 02 minutes 20 seconds West a distance of 94.20 feet to a monument set above the West line of East Street (up on elevated property) 336.62 feet South of the South line of Washington Street measured along the West line of East Street;

(4) Thence continuing South 73 degrees 02 minutes 20 seconds West a distance of 139.29 feet to a monument set at the point of curvature of the following described tangential curve;

(5) Thence Southwesterly along said curve to the right having a radius of 954.68 feet and a chord of 151.07 feet bearing South 77 degrees 34 minutes 50 seconds West for an arc distance of 151.23 feet to a monument set on the East line of Parcel No. INF-10H-145A;

Thence South 00 degrees 12 minutes 27 degrees West along said East line parallel to the East line of New Jersey Street a distance of 234.91 feet to a monument set 40.00 feet Northwesterly measured perpendicularly from the center line of the Northerly track of the Indianapolis Railway Company as it was located November 7, 1977; thence North 62 degrees 46 minutes 20 seconds East parallel to said track center line a distance of 316.01 feet to a monument above the West line of East Street (up on elevated property); thence continuing North 62 degrees 46 minutes 20 seconds East parallel to said track center line a distance of 65.42 feet to a monument set at the point of curvature of the following described tangential curve; thence Northeasterly parallel to said track center line along said curve to the left having a radius of 1927.76 feet and a chord of 36.17 feet bearing North 62 degrees 13 minutes 47 seconds East for an arc distance of 36.17 feet to a monument set above the East line of East Street (up on elevated property); thence continuing Northeasterly along said curve parallel to said track center line having a radius of 1927.76 feet and a chord of 82.56 feet bearing North 60 degrees 28 minutes 16 seconds East for an arc distance of 82.57 feet to a monument at the point of tangency; thence North 59 degrees 14 minutes 18 seconds East parallel to said track center line a distance of 98.43 feet to a monument set at the point of curvature of the following described tangential curve; thence Northeasterly along said curve to the left parallel to said track center line having a radius of 852.70 feet and a chord of 110.42 feet bearing North 55 degrees 32 minutes 01 second East for an arc distance of 110.49 feet to a monument set at the point of tangency; thence North 51 degrees 49 minutes 16 seconds East parallel to said track center line for a distance of 36.88 feet to a monument set at the point of curvature of the following described tangential curve; thence Northeasterly along said curve to the right parallel to said track center line having a radius of 2801.94 feet and a chord of 122.86 feet bearing North 53 degrees 04 minutes 28 seconds East for an arc distance of 122.87 feet to a monument set at the point of tangency; thence North 54 degrees 19 minutes 51 seconds East parallel to said track center line a distance of 24.20 feet to the point of beginning.

Instrument No. 83-69617

A tract of land lying on the east side of Alabama Avenue and south side of Pearl Street and being a part of the Northwest Quarter and part of the Northeast Quarter of Section 12, Township 15 North, Range 3 East in Center Township, Marion County Indiana, being a part of Square 61, Square 62, Square 79, Square 80, and Out Lots 82, 83 and 84 in the City of Indianapolis, more particularly described as follows:

Commencing at the intersection of the south line of Washington Street and the west line of Liberty Street (now Park Avenue); thence South 0 degrees 01 minute 33 seconds West (assumed bearing), one hundred and seventy-nine and three hundred forty thousandths (179.340) feet along west line of Liberty Street to a point in the south line of the Chicago, Indianapolis and Louisville Railroad (and now Seaboard System Railroad, Inc. by virtue of merger and name change) and the Point of Beginning; (next 3 courses along said south line) thence South 73 degrees 02 minutes 20 seconds West, six hundred seventy-three and three hundred thirty thousandths (673.330) feet to point of curvature of a tangent curve; thence Southwesterly two hundred eighty-five and four hundred ten thousandths (285.410) feet along said curve concave to the northwest having a radius of nine hundred fifty-four and sixty-three hundredths (954.63) feet and subtended by a long chord bearing South 81 degrees 36 minutes 13 seconds West, two hundred eighty-four and three hundred fifty thousandths (284.350) feet; thence North 89 degrees 49 minutes 55 seconds West, five hundred fourteen and seven hundred forty thousandths (514.740) feet to a point in the east line of Alabama Street; thence North 0 degrees 12 minutes 32 seconds East, ninety-three (93.000) feet; thence South 89 degrees 49 minutes 55 seconds East, two hundred nine and nine hundred seventy thousandths (209.970) feet; thence North 0 degrees 12 minutes 36 seconds East, twelve (12.000) feet; thence South 89 degrees 49 minutes 55 seconds East, two hundred fifty-four and nine hundred seventy thousandths (254.970) feet; thence North 0 degrees 12 minutes 27 seconds East, one hundred (100.000) feet; thence South 89 degrees 49 minutes 55 seconds East, four hundred sixty-four and fifty-four thousandths (464.054) feet to a point in the west line of East Street (on the east face of an existing concrete retaining wall); thence South 0 degrees 17 minutes 36 seconds East, thirty-nine and four hundred sixty-four thousandths (39.464) feet along West line of East Street; thence North 76 degrees 45 minutes 56 seconds East, thirteen and three hundred twenty-seven thousandths (13.327) feet along north face of existing concrete retaining wall (elevated above East Street); thence North 80 degrees 45 minutes 30 seconds East, seventy-six and seven hundred ninety-three thousandths (76.793) feet along said retaining wall to a point in the east line of East Street (also, at the west face of a concrete retaining wall—following sixteen (16) courses along said concrete retaining wall); thence North 2 degrees 10 minutes 42 seconds East, twenty-four and one hundred thousandths (24.100) feet; thence South 89 degrees 48 minutes 13 seconds East, one hundred five and three hundred twenty-eight thousandths (105.328) feet; thence South 2 degrees 11 minutes 16 seconds East, one and seven hundred eighty-one thousandths (1.781) feet; thence South 89 degrees 38 minutes 56 seconds East, one hundred four and nine hundred forty-eight thousandths (104.948) feet; thence North 76 degrees 56 minutes 40 seconds East, twenty-five and four hundred ninety-four thousandths (25.494) feet; thence North 73 degrees 04 minutes 30 seconds East, fifty-three and three hundred thirty-five thousandths (53.335) feet; thence North 75 degrees 50 minutes 54 seconds East, thirty-five and one hundred thirty-four thousandths (35.134) feet; thence North 77 degrees 04 minutes 43 seconds East, forty-one and thirteen thousandths (41.013) feet; thence North 74 degrees 17 minutes 52 seconds East, twenty-one and four hundred fifty-seven thousandths (21.457) feet; thence South 1 degree 25 minutes 21 seconds West, two and four hundred seventeen thousandths (2.417) feet; thence North 68 degrees 57 minutes 00 seconds East, twenty-two (22.000) feet; thence North 0 degrees 44 minutes 36 seconds East, five and three hundred nineteen thousandths (5.319) feet; thence North 71 degrees 00 minutes 22 seconds East, fifty-one and four hundred sixty-four thousandths (51.464) feet; thence North 65 degrees 58 minutes 43 seconds East, sixty-seven and one hundred fifteen thousandths (67.115) feet; thence North 54 degrees 04 minutes 39 seconds East, forty-three and one hundred thirty-eight thousandths (43.138) feet; thence South 0 degrees 39 minutes 20 seconds West, four and twenty thousandths (4.020) feet to a point in the north line of the former Cleveland, Cincinnati, Chicago and St. Louis Railway; thence South 50 degrees 03 minutes 42 seconds West, one hundred thirty-nine and one hundred thirty thousandths (139.130) feet along said north line; thence South 73 degrees 02 minutes 20 seconds West, twelve and eight hundred thousandths (12.800) feet to the Point of Beginning and containing 3.564 acres more or less and being a part of the same property acquired by the Louisville and Nashville Railroad Company through merger between the Louisville and Nashville Railroad Company and the Monon Railroad Company on July 31, 1971, the Agreement of Merger recorded as Instrument No. 72-18527, and acquired by the Seaboard Coast Line Railroad Company through merger between the Seaboard Coast Line Railroad Company and the Louisville and Nashville Railroad Company, effective December 29, 1982, recorded as Instrument No. 83-03020, and name of the surviving company changed to the Seaboard System Railroad, Inc., by virtue of name change effective December 29, 1982, recorded as Instrument No. 83-03019, all in the Recorder's office, Marion County, Indiana.

Exceptions

Instrument No. 840071517

A part of Lots 3 and 4 in Yandes and Wilkins Subdivision of Square 62, an addition to the City of Indianapolis, the plat of which is recorded in Plat Book 1, page 293 in the Office of the Recorder of Marion County, Indiana, described as follows:

Beginning at the Southwest corner of said Lot 4, thence North 00 degrees 02 minutes 00 seconds East 93.00 feet along the west line of said Lots 4 and 3 to the northwest comer of said Lot 3, thence South 89 degrees 57 minutes 50 seconds East 167.24 feet along the north line of said Lot 3; thence South 37 degrees 55 minutes 27 seconds West 9.68 feet, thence Southwesterly 122.39 feet along an arc to the right having a radius of 454.26 feet and subtended by a long chord having a bearing of South 45 degrees 38 minutes 33 seconds West and a length of 122.02 feet to the south line of said Lot 4, thence North 89 degrees 57 minutes 50 seconds West 74.10 feet along said south line to the point of beginning and containing 11,637 square feet, more or less.

Instrument No. 850065435

A part of Lots 3, 4, 5 and 6 and a part of vacated Erie Street and a part of vacated alley between Lots 6 and 7, all in Yandes & Wilkins Subdivision of Square 62, an addition to the City of Indianapolis, the plat of which is recorded in Plat Book 1, page 293 in the Office of Recorder of Marion County, Indiana more particularly described as follows:

Commencing at the southwest corner of Lot 4 in said subdivision; thence South 89 degrees 49 minutes 55 seconds East 74.10 feet along south line of Lot 4 to the Point of Beginning; thence Northeasterly 122.44 feet along a curve to the left having a radius of 454.26 feet and subtended by a long chord bearing North 45 degrees 47 minutes 56 seconds East 122.07 feet to point of tangency; thence North 38 degrees 03 minutes 22 seconds East 9.68 feet to north line of Lot 3; thence South 89 degrees 49 minutes 55 seconds East 42.73 feet; thence North 0 degrees 12 minutes 27 seconds East 12.00 feet; thence South 89 degrees 49 minutes 55 seconds East 112.97 feet along south line of Lot 7; thence South 0 degrees 12 minutes 27 seconds West 105.00 feet to south line of Lot 5; thence North 89 degrees 49 minutes 55 seconds West 248.84 feet along said south line to the Point of Beginning, and containing 19,752 square feet, more or less.

Issued in Des Plaines, Illinois, on February 2, 2023.
Debra L. Bartell,
Manager, Chicago Airports District Office, FAA, Great Lakes Region.

[FR Doc. 2023-02562 Filed 2-6-23; 8:45 am]

BILLING CODE 4910-13-P